DEPARTMENT OF STATE

[Public Notice No. 3464]

Advisory Committee on Historical Diplomatic Documentation; Notice of Meeting

The Advisory Committee on Historical Diplomatic Documentation will meet in the Department of State, 2201 “C” Street NW, Washington, D.C., December 11-12, 2000 in Conference Room 1105. Prior notification and a valid photo are mandatory for entrance into the building. One week before the meeting, members of the public planning to attend must notify Gloria Walker, Office of Historian (202-663-1124) providing relevant dates of birth, Social Security numbers, and telephone numbers.

The Committee's sessions from 1:30 p.m. until 5:00 p.m. on Monday, December 11, 2000, will be closed in accordance with section 10(d) of the Federal Advisory Committee Act (Pub. L. 92-463). The agenda calls for discussions of agency declassification decisions concerning the Foreign Relations series. These are matters not subject to public disclosure under 5 U.S.C. 552b(c)(1) and the public interest requires that such activities be withheld from disclosure. The remaining session of the Committee will meet in open session from 9:00 a.m. through 11:00 a.m. on Tuesday, December 12, 2000, to discuss transfer of Department of State electronic records to the National Archives and Records Administration and the modernization of the Foreign Relations series.

Questions concerning the meeting should be directed to David Patterson, Acting, Executive Secretary, Advisory Committee on Historical Diplomatic Documentation, Department of State, Office of the Historian, Washington, DC, 20520, telephone (202) 663-1127, (e-mail history@state.gov).

Dated: November 17, 2000.
David Patterson,
Acting Executive Secretary.

[FR Doc. 00-30141 Filed 11-24-00; 8:45 am]

BILLING CODE 4710-11-U